NUCLEAR REGULATORY COMMISSION

[Docket No. NRC-2010-0347]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on December 30, 2010.

1. Type of submission, new, revision, or extension: Extension.

2. The title of the information collection: “DOE/NRC Form 742, Material Balance Report and NUREG/BR-0007, Instructions for the Preparation and Distribution of Material Status Report.”

3. Current OMB approval number: 3150-0004.

4. The form number if applicable: 742.

5. How often the collection is required: DOE/NRC Form 742 is submitted annually following a physical inventory of nuclear materials.

6. Who will be required or asked to report: Persons licensed to possess specified quantities of special nuclear or source material.

7. An estimate of the number of annual responses: 380.

8. The estimated number of annual respondents: For DOE/NRC Form 742, there are approximately 380 respondents annually.

9. An estimate of the total number of hours needed annually to complete the requirement or request: 1300.

10. Abstract: Each licensee authorized to possess special nuclear material totaling more than one gram of contained uranium-235, uranium-233, or plutonium, or any combination thereof, are required to submit DOE/NRC Forms 742 and 742C. In addition, any licensee authorized to possess 1,000 kilograms of source material is required to submit DOE/NRC Form 742. The information is used by NRC to fulfill its responsibilities as a participant in US/IAEA Safeguards Agreement and various bilateral agreements with other countries, and to satisfy its domestic safeguards responsibilities.

The public may examine and have copied for a fee publicly available documents, including the final supporting statement, at the NRC's Public Document Room, Room O-1F21, One White Flint North, 11555 Rockville Pike, Rockville, Maryland 20852. OMB clearance requests are available at the NRC Web site: http://www.nrc.gov/public-involve/doc-comment/omb/. The document will be available on the NRC home page site for 60 days after the signature date of this notice.

Comments and questions should be directed to the OMB reviewer listed below by May 27, 2011. Comments received after this date will be considered if it is practical to do so, but assurance of consideration cannot be given to comments received after this date.

Christine J. Kymn, Desk Officer, Office of Information and Regulatory Affairs (3150-0004), NEOB-10202, Office of Management and Budget, Washington, DC 20503.

Comments can also be e-mailed to Christine_J._Kymn@omb.eop.gov or submitted by telephone at 202-395-4638.

The NRC Clearance Officer is Tremaine Donnell, 301-415-6258.

Dated at Rockville, Maryland, this 21st day of April 2011.
For the Nuclear Regulatory Commission.
Tremaine Donnell,
NRC Clearance Officer, Office of Information Services.

[FR Doc. 2011-10168 Filed 4-26-11; 8:45 am]

BILLING CODE 7590-01-P